ENVIRONMENTAL PROTECTION AGENCY

40 CFR Part 52

[OH140-1b; FRL-6992-1]

Approval and Promulgation of Implementation Plans; OH

AGENCY: Environmental Protection Agency (EPA).

ACTION: Proposed rule.

SUMMARY: The EPA is proposing to approve revisions to sulfur dioxide (SO2) emissions regulations for the Lubrizol Corporation (Lubrizol) in Lake County, Ohio. The Ohio Environmental Protection Agency (Ohio EPA) submitted Director's Final Findings and Orders (Orders) for the Lubrizol facility on November 9, 2000. These Orders are revisions to the Ohio State Implementation Plan (SIP). The revisions are the adjustment of six short-term emissions limits, the addition of an annual emissions limit, and the addition of a continuous emission rate monitoring system (CERMS) requirement for the facility. Three short-term emissions limits are relaxed and three short-term are tightened. There is no increase in the total potential short-term SO2 emissions.

DATES: The EPA must receive written comments on this proposed rule by July 12, 2001.

ADDRESSES: You should mail written comments to: J. Elmer Bortzer, Chief, Regulation Development Section, Air Programs Branch (AR-18J), U.S. Environmental Protection Agency, Region 5, 77 West Jackson Boulevard, Chicago, Illinois 60604.

You may inspect copies of Ohio's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION: Throughout this document wherever “we,” “us,” or “our” are used we mean the EPA.

Table of Contents

I. What actions are EPA taking today?

II. Where can I find more information about this proposal and the corresponding direct final rule?

I. What Actions Are EPA Taking Today?

The EPA is proposing to approve revisions to sulfur dioxide emissions limits for the Lubrizol Corporation facility in Lake County, Ohio. Ohio EPA submitted the revised regulations on November 9, 2000 as an amendment to its SIP. These revisions are the adjustment of six short-term limits (three relaxed and three tightened), the addition of an annual limit, and the requirement of a continuous emission rate monitoring system (CERMS).

II. Where Can I Find More Information About This Proposal and the Corresponding Direct Final Rule?

For additional information see the direct final rule published in the rules section of this Federal Register.

Dated: May 18, 2001.
David A. Ullrich,
Acting Regional Administrator, Region 5.

[FR Doc. 01-14609 Filed 6-11-01; 8:45 am]

BILLING CODE 6560-50-P